DEPARTMENT OF COMMERCE

National Oceanic and Atmospheric Administration

50 CFR Part 679

RIN 0648-BD35

Fisheries of the Exclusive Economic Zone Off Alaska; Bering Sea and Aleutian Islands Management Area; Amendment 106

AGENCY: National Marine Fisheries Service (NMFS), National Oceanic and Atmospheric Administration (NOAA), Commerce.

ACTION: Notice of availability of amendment to fishery management plan; request for comments.

SUMMARY: The North Pacific Fishery Management Council (Council) has submitted Amendment 106 to the Fishery Management Plan for Groundfish of the Bering Sea and Aleutian Islands Management Area (FMP) to the Secretary of Commerce (Secretary) for review. Amendment 106 to the FMP would allow the owner of an AFA vessel to rebuild or replace that vessel and would allow the owners of AFA catcher vessels that are inactive or obsolete to remove those vessels from the AFA fishery. This action is necessary to bring the FMP into conformity with the AFA as amended by the Coast Guard Authorization Act of 2010 (Coast Guard Act), and to improve vessel safety and operational efficiency in the AFA fleet. This action is intended to promote the goals and objectives of the Magnuson-Stevens Fishery Conservation and Management Act, the AFA, the FMP, and other applicable laws.

DATES: Submit comments on or before August 4, 2014.

ADDRESSES: You may submit comments, identified by NOAA-NMFS-2013-0097, by any one of the following methods:

• Electronic Submission: Submit all electronic public comments via the Federal e-Rulemaking portal. Go to www.regulations.gov/#!docketDetail;D=NOAA-NMFS-2013-0097, click the “Comment Now!” icon, complete the required fields, and enter or attach your comments.

• Mail: Address written comments to Glenn Merrill, Assistant Regional Administrator, Sustainable Fisheries Division, Alaska Region NMFS, Attn: Ellen Sebastian. Mail comments to P. O. Box 21668, Juneau, AK 99802.

Instructions: Comments sent by any other method, to any other address or individual, or received after the end of the comment period, may not be considered. All comments received are a part of the public record and will generally be posted for public viewing on http://www.regulations.gov without change. All Personal Identifying Information (for example, name, address) voluntarily submitted by the commenter will be publicly accessible. Do not submit Confidential Business Information or otherwise sensitive or protected information. NMFS will accept anonymous comments (enter N/A in the required fields, if you wish to remain anonymous). Attachments to electronic comments will be accepted in Microsoft Word, Excel, WordPerfect, or Adobe PDF file formats only.

Copies of Amendment 106, the Regulatory Impact Review/Initial Regulatory Flexibility Analysis prepared for this action, and the Categorical Exclusion prepared for this action may be obtained from http://www.regulations.gov or from the Alaska Region Web site at http://www.alaskafisheries/noaa.gov.

FOR FURTHER INFORMATION CONTACT: Mary Alice McKeen, 907-586-7228.

SUPPLEMENTARY INFORMATION: The Magnuson-Stevens Act in section 304(a) requires that each regional fishery management council submit an amendment to a fishery management plan for review and approval, disapproval, or partial approval by the Secretary. The Magnuson-Stevens Act in section 304(a) also requires that the Secretary, upon receiving an amendment to a fishery management plan, immediately publish a notice in the Federal Register announcing that the amendment is available for public review and comment. The Council has submitted Amendment 106 to the FMP to the Secretary for review. This notice announces that proposed Amendment 106 to the FMP is available for public review and comment.

The FMP contains a number of provisions related to requirements of the AFA. Congress adopted the AFA in 1998 as part of the Omnibus Appropriations Bill FY 99 (Pub. L. 105-277). The AFA as originally adopted allowed the owners of AFA vessels to replace AFA vessels under certain limited circumstances. The President signed the AFA into law on October 21, 1998. In 2010, Congress amended the AFA in section 602 of the Coast Guard Act to significantly expand the ability of AFA vessel owners to rebuild or replace AFA vessels. The President signed the Coast Guard Act into law on October 15, 2010. The original AFA and the AFA amendments in the Coast Guard Act are available on the NMFS Alaska Region Web site at: https://alaskafisheries.noaa.gov/sustainablefisheries/afa/afa1998.pdf; https://alaskafisheries.noaa.gov/sustainablefisheries/afa/afa_amendments2010.pdf, respectively.

Amendment 106 to the FMP would bring the FMP into conformity with the AFA as amended by the Coast Guard Act. Under the amended AFA and proposed Amendment 106, the owner of an AFA vessel may rebuild or replace that vessel with a vessel documented with a fishery endorsement under 46 U.S.C. 12113 in order to improve vessel safety or improve operational efficiency, including fuel efficiency, with no limitation on the length, weight, or horsepower of the AFA rebuilt or AFA replacement vessel. An AFA rebuilt or AFA replacement vessel would be eligible to operate in the fisheries in the Exclusive Economic Zone off Alaska in the same manner as the vessel before rebuilding or before replacement. For example, if an AFA vessel before rebuilding or replacement was exempt from certain harvest limitations that apply to AFA vessels, commonly referred to as sideboards, the AFA rebuilt or replacement vessel would have the same sideboard exemption or exemptions.

Under current provisions of the FMP, all AFA vessels must have a License Limitation Program (LLP) groundfish license with a Bering Sea endorsement to conduct directed fishing for pollock in the Bering Sea. Amendment 106 would not change that requirement. All AFA vessels would still be required to have an LLP groundfish license with a Bering Sea endorsement to conduct directed fishing for pollock in the Bering Sea. However, Amendment 106 would change the FMP to allow an AFA rebuilt vessel and an AFA replacement vessel to exceed without limitation the maximum length overall (MLOA) specified on the vessel's LLP groundfish license when the vessel is fishing for groundfish in the Bering Sea and Aleutian Islands management area (BSAI) pursuant to that LLP license.

Amendment 106 would only amend the BSAI groundfish FMP. Amendment 106 would not change the Fishery Management Plan for Groundfish of the Gulf of Alaska (GOA). Under that fishery management plan and regulations implementing it, if the owner of an AFA vessel wishes to fish for LLP groundfish in the Gulf of Alaska, the AFA vessel must be named on an LLP groundfish license with the appropriate area endorsement for the Gulf of Alaska and must not exceed the MLOA specified on that LLP license when fishing for LLP groundfish in the Gulf of Alaska pursuant to that LLP license. Amendment 106 does not remove AFA rebuilt or AFA replacement vessels from the MLOA requirement when those vessels operate in the GOA.

Amendment 106 also would allow an owner of an AFA catcher vessels that is a member of an inshore cooperative to remove the vessel from the cooperative and direct NMFS to assign the pollock catch history of the removed vessel to any other vessel or vessels in the same AFA cooperative. The vessel or vessels that would be assigned the catch history would be required to remain in the cooperative for at least one year after NMFS assigned the catch history to them. Except for the assignment of the pollock catch history, NMFS would permanently extinguish all claims, including those related to catch history, associated with the removed vessel that could have qualified the owner of the removed vessel for any permit to participate in any fishery within the EEZ off Alaska. If the removed vessel was exempt from a sideboard harvest limitation, NMFS would permanently extinguish that exemption.

Under Amendment 106, a vessel that is replaced or removed would be permanently ineligible for any permits to participate in any fishery in the Exclusive Economic Zone off Alaska, unless the replaced or removed vessel reenters the directed pollock fishery as an AFA replacement vessel.

NMFS notes that the AFA as amended by the Coast Guard Act has provisions on the issuance of Federal fishery endorsements. The United States Coast Guard, in conjunction with the Maritime Administration, will implement those provisions.

NMFS is soliciting public comments on proposed Amendment 106 through the end of the comment period (see the DATES section above). NMFS intends to publish in the Federal Register and seek public comment on a proposed rule that would implement Amendment 106, following NMFS' evaluation of the proposed rule under the Magnuson-Stevens Fishery Conservation and Management Act. All comments received by the end of the comment period on Amendment 106, whether specifically directed to the FMP amendment or the proposed rule, will be considered in the approval/disapproval decision on Amendment 106. Comments received after that date may not be considered in the approval/disapproval decision on Amendment 106. To be certain of consideration, comments must be received, not just postmarked or otherwise transmitted, by the last day of the comment period.

Authority: 16 U.S.C. 1801 et seq.

Dated: May 29, 2014.
Emily H. Menashes,
Acting Director, Office of Sustainable Fisheries, National Marine Fisheries Service.

[FR Doc. 2014-12829 Filed 6-2-14; 8:45 am]

BILLING CODE 3510-22-P